DEPARTMENT OF COMMERCE

National Oceanic and Atmospheric Administration

[Docket No. 090219207-9212-01]

RIN 0648-ZC05

NOAA Coastal and Marine Habitat Restoration Project Grants

AGENCY: National Marine Fisheries Service (NMFS), National Oceanic and Atmospheric Administration (NOAA), Commerce.

ACTION: Notice of funding availability under the American Recovery and Reinvestment Act.

SUMMARY: NOAA delivers funding and technical expertise to restore coastal and marine habitats. These habitats support valuable fisheries and protected resources, improve the quality of our water, provide recreational opportunities for the public's use and enjoyment, and buffer our coastal communities from the impacts of storms and sea level rise. Projects funded through NOAA have strong on-the-ground habitat restoration components that provide social and economic benefits for people and their communities in addition to long-term ecological habitat improvements. Through this solicitation, NOAA seeks to openly compete funding available for habitat restoration under the American Recovery and Reinvestment Act of 2009. Applications should be submitted for any project that is to be considered for this funding, even for those projects put forth to the Federal Government as examples by internal and external restoration partners or submitted as applications to other NOAA competitions. Competition will ensure that the most beneficial restoration projects are selected to realize significant ecological gains (with emphasis on projects that are regionally or nationally significant species and ecosystems), fuel America's near-term economy, and ensure that projects are truly “shovel-ready.” Proposals selected for funding through this solicitation will be implemented through a grant or cooperative agreement, with awards dependent upon the amount of funds made available to NOAA for this purpose by Congress. NOAA anticipates that up to $170 million may be available for coastal and marine habitat restoration; typical awards are expected to range between $1.5 million to $10 million. Funds will be administered by NOAA's Office of Habitat Conservation.

DATES: Applications must be postmarked, provided to a delivery service, or received by www.grants.gov by 11:59 PM EDT on April 6, 2009. Use of U.S. mail or another delivery service must be documented with a receipt. No facsimile or electronic mail applications will be accepted.

ADDRESSES: Electronic applications are strongly encouraged and are available at http://www.grants.gov. Grants.gov requires applicants to register with the system prior to submitting an application for the first time. This registration process can take over a week and involves multiple steps. In order to allow sufficient time for this process, prospective applicants should register as soon as they decide to apply, even if not yet ready to submit an application. If an applicant is having difficulty downloading the application forms from Grants.gov, contact Grants.gov customer support at 1-800-518-4726 or support@grants.gov. If an applicant is having difficulty with Grants.gov, the applicant should contact Craig Woolcott at Craig.Woolcott@noaa.gov, or by phone at 301-713-0174, or by mail at NOAA Fisheries, Office of Habitat Conservation (F/HC3), 1315 East West Highway, Silver Spring, MD 20910.

FOR FURTHER INFORMATION CONTACT: Craig Woolcott or Melanie Gange at (301) 713-0174, or by e-mail at Craig.Woolcott@noaa.gov or Melanie.Gange@noaa.gov. Prospective applicants are invited to contact NOAA staff before submitting an application to discuss whether their project ideas are within the scope of the American Recovery and Reinvestment Act's objectives and NOAA's mission and goals.

SUPPLEMENTARY INFORMATION: The principal objective of these NOAA Coastal and Marine Habitat Restoration Project Grants is to provide Federal financial and technical assistance to “ready-to-go” (shovel-ready) projects that meet NOAA's mission to restore marine and coastal habitats and that will result in near-immediate stimulation of local United States (U.S.) economies through the creation or retention of restoration-related jobs for work in U.S. jurisdictions.

NOAA seeks to support projects that will result in on-the-ground restoration of marine and coastal habitat (including Great Lakes habitat) that are aligned with the objectives of the American Recovery and Reinvestment Act. Restoration for the purposes of this solicitation will be broadly inclusive. Restoration includes, but is not limited to, activities that contribute to the return of degraded or altered marine, estuarine, coastal, and freshwater (diadromous fish) habitats to a close approximation of their function prior to disturbance. Habitat restoration activities that produce ecologically significant habitat features to create buffers or “green infrastructure” that serve to protect coastal communities from sea level rise, coastal storms and flooding, or that provide adaptation to climate change will also be considered. The program priorities for this opportunity primarily support NOAA's “Ecosystems” mission support goal of “Protect, Restore, and Manage Use of Coastal and Ocean Resources through Ecosystem-Based Management.”

NOAA will emphasize the selection of mid-scale, shovel-ready restoration projects that will (1) yield significant ecological benefits with emphasis on regionally or nationally significant species and ecosystems, and (2) stimulate local economies through the creation or retention of restoration-related jobs for work in U.S. jurisdictions. Mid-scale projects are anticipated to be those with a total project cost (NOAA award plus any match or leverage) over $1.5 million. Shovel-ready projects are expected to be those where feasibility studies and/or other baseline information required for a design are available, where required consultations and permits, if not in-hand, are either in progress or there is reasonable assurance provided that they can be attained quickly, and where NEPA analysis and any environmental permits and authorizations are finished or can be expeditiously completed, so that projects can be implemented shortly after funding is made available (see NEPA details below, and in Section VI.B.2 of the FFO).

High priority will be given to applications for projects that:

• Have the greatest potential to achieve ecological benefits and maximize jobs creation/preservation;

• Can begin within the first 90 days of the award start date;

• Can be completed within 12-18 months;

• Have the greatest potential to be sustainable and provide lasting benefits of regional or national significance;

• Identify specific goals and outcomes, with appropriate ecological and economic performance metrics;

• Propose sufficient, cost-effective monitoring appropriate to the scope and scale of the project to evaluate a project's benefits;

• Are consistent with NOAA species recovery planning efforts if located in areas where recovery planning efforts for Endangered Species Act listed species are underway;

• Request funds primarily to implement physical, on-the-ground coastal habitat restoration (as opposed to funds for general program support, overhead and travel).

Because the purpose of these funds is to quickly stimulate local U.S. economies through habitat restoration, applications for projects lacking opportunity to generate employment through restoration implementation or provide long-term economic benefits will not compete well and are discouraged.

The following are exemplary of the types of coastal and marine habitats and projects that will receive priority for restoration funding consideration:

• Diadromous fish habitat, particularly projects that remove in-stream migration barriers or create/restore habitats limiting productivity;

• Shellfish habitat restoration/creation, for the broad ecological benefits and ecosystem services they provide;

• Coral reefs, through projects that address land-based sources of pollution, recovery from disturbance or disease, or that promote coral recruitment and/or recovery;

• Coastal wetlands, through shoreline restoration or hydrological reconnection;

• Projects that seek to restore coastal and marine habitat to recover threatened or endangered species or for species of concern;

• Projects that provide protection for communities and infrastructure through habitat restoration to improve coastal resiliency to storms and coastal flooding;

• Projects that improve the potential for coastal habitat to respond to climate change through restoration or protection of transition zones that provide room for habitat migration with sea level rise;

• Projects that seek to address the problem of marine debris accumulation in coastal and marine habitats;

• Projects that support conservation corps type activities to provide employment, education and training through restoration of coastal and marine habitat; and

• Restoration of Great Lakes habitats within Areas of Concern addressing beneficial use impairments to loss of fish and wildlife habitat and/or degradation of benthos.

Safety is a critical consideration for restoration project implementation. If an application is selected, the grantee must have a written safety plan for all project-related activities, including management of volunteers (if applicable). The safety plan should consider safety at the site during and after project construction, and take into account potential safety concerns with regard to the current and future use of the site.

Electronic Access

The full text of the Federal Funding Opportunity (FFO) announcement for this program can be accessed via the Grants.gov web site at http://www.grants.gov (FFO number: NOAA-NMFS-HCPO-2009-2001709). The FFO will also be available by contacting the program officials identified under FOR FURTHER INFORMATION CONTACT. Applicants must comply with all requirements contained in the FFO.

Statutory Authority

The Secretary of Commerce is authorized under the following statutes to provide grants and cooperative agreements for habitat restoration:

• Fish and Wildlife Coordination Act 16 U.S.C. 661, as amended by the Reorganization Plan No. 4 of 1970;

• Magnuson-Stevens Fishery Conservation and Management Reauthorization Act of 2006, 16 U.S.C. 1891a;

• Marine Debris Research, Prevention, and Reduction Act, 33 U.S.C. 1951 et seq.;

• Coral Reef Conservation Act of 2000, 16 U.S.C. 6403;

• Coastal Zone Management Act of 1972, as amended, 16 U.S.C. 1451 et seq.;

• National Marine Sanctuaries Act, 16 U.S.C. 1431 et seq.;

• Marine Mammal Protection Act, 16 U.S.C. 1382; and

• Endangered Species Act, 16 U.S.C. 1535.

Catalogue of Domestic Federal Assistance (CFDA) Number: 11.463, Habitat Conservation.

Funding Availability

NOAA anticipates that up to $170 million may be available for coastal and marine habitat restoration; typical awards are expected to range between $1.5 million and $10 million. NOAA will not accept applications requesting more than $20 million or less than $500,000 under this solicitation. There is no guarantee that sufficient funds will be available to make awards for all applications. The number of awards to be made as a result of this solicitation will depend on the number of eligible applications received, the amount of funds requested for habitat restoration projects by the applicants, the merit and ranking of the applications, the amount of funds made available by Congress, and the amount of funding, if any, put toward American Recovery and Reinvestment Act projects outside this solicitation.

NOAA will consider funding more than one project under a single application and/or award. Applicants that bundle projects in a single application should ensure that there is sufficient detail for each project as per the guidelines and information requirements listed in this document if an application is to be competitive; all projects in the bundle should be able to be initiated quickly as well as completed within the award period specified below. Projects that are sufficiently different in nature so that they cannot be succinctly described within the narrative page limit requirements may be most competitive as individual applications and should be submitted as such.

The exact amount of funds that may be awarded will be determined in pre-award negotiations between the applicant and NOAA representatives. Publication of this document does not obligate NOAA to award any specific project or obligate all or any parts of any available funds. Pre-award costs are generally unallowable. If applicants incur any costs prior to an award being made, they do so at their own risk of not being reimbursed by the government. There is no obligation on the part of NOAA to cover pre-award costs unless approved by the Grants Officer as part of the terms when the award is made.

Eligibility

Eligible applicants are institutions of higher education, non-profits, commercial (for profit) organizations, U.S. Territories, and state, local and Indian tribal governments. Applications from Federal agencies or employees of Federal agencies will not be considered. Federal agencies are strongly encouraged to work with states, non-governmental organizations, municipal and county governments, conservation corps organizations and others that are eligible to apply.

The Department of Commerce/National Oceanic and Atmospheric Administration (DOC/NOAA) is strongly committed to broadening the participation of historically black colleges and universities, Hispanic-serving institutions, tribal colleges and universities, and institutions that work in under-served areas. NOAA encourages applications involving any of the above institutions.

Cost Sharing Requirements

There is no statutory matching requirement for this funding.

Evaluation and Selection Procedures

The evaluation criteria, review process and selection factors that apply to eligible applications under this funding opportunity are below. Further information about the application requirements, evaluation and selection process can be found in the FFO.

Evaluation Criteria for Projects

Reviewers will assign scores to applications ranging from 0 to 50 points based on the following five standard NOAA evaluation criteria and respective weights specified below. Applications that best address these criteria will be most competitive.

1. Importance and Applicability of Proposal (20 points): This criterion ascertains whether there is intrinsic value in the proposed work and/or relevance to NOAA, Federal, regional, state or local activities. For the NOAA Coastal and Marine Habitat Restoration Project Grants competition, applications will be evaluated based on the following:

• The potential of an application to meet the intent of the American Recovery and Reinvestment Act to readily maximize jobs created or maintained through implementation of shovel-ready coastal and marine habitat restoration projects, and to improve the short- and long-term economic condition of an area (e.g., increased fisheries benefits, increased tourism and recreation, etc.), based on the significance of the anticipated outcomes of the project. This includes the extent to which the project(s) will deliver tangible, specific results that are measurable with respect to the number, type, speed, and duration (in labor hours) of jobs created or maintained directly resulting from the project.(8 points)

• The potential of an application to meet NOAA's mission to protect and restore marine and coastal habitats, based on the significance of the anticipated ecological benefits. This includes the extent to which the project will deliver tangible, specific results that are measurable and relevant to NOAA performance measures such as acres restored, stream miles opened for fish passage, tonnage of marine debris removed, and similar outputs that directly result from the project. (8 points)

• The potential of the project to be sustainable and provide lasting benefits of regional or national significance for coastal and marine habitats. Reviewers will be looking for evidence that 1) there is demonstrated support for the project in the form of a letter from partners, local entities, and/or state and local governments, and a letter of commitment from the appropriate resource agency personnel for a project in permanently protected areas, or from the affected landowner for a project on private property, that provides assurance of support and dedication to protecting the project for its useful life (letter of support, conservation easement, or significant financial or other in-kind investment); 2) the applicant has chosen the most self-sustaining restoration technique that accomplishes the project's goals; and/or 3) the project will remove a habitat or species impact that will not re-occur. (4 points)

2. Technical/Scientific Merit (12 points): This criterion assesses whether the approach is technically sound and/or innovative, if the methods are appropriate, and whether there are clear project goals and objectives. For the NOAA Coastal and Marine Habitat Restoration Project Grants competition, applications will be evaluated based on the following:

• The extent to which the applicant has described a realistic implementation plan, beginning within the first 90 days of the award start date, and whether the project is likely to be fully achievable within 12-18 months. Applications that provide assurance that implementation of the project will meet all Federal, state and local environmental laws, and that applicable permits and/or approvals are in hand or will be obtained expeditiously, so that on-the-ground activities will begin soon after the project's proposed start date are likely to score higher(see NEPA details in Section VI.B.2 of the FFO). Applications submitted with evidence of completed environmental assessments, completed consultations and/or secured permits, if applicable, will score higher. (5 points)

• The overall feasibility of the project from a socioeconomic perspective. This includes the likelihood that a project is able to meet stated employment targets and whether there is an effective mechanism to evaluate project success, including adequate and meaningful performance measures for economic benefits, for which results will be available within and following the award period. Those projects that identify specific quantifiable targets achievable during the award period are likely to score higher. (3 points)

• The overall technical feasibility of the project from a biological and engineering perspective, including whether the proposed approach is technically sound, safe, and uses appropriate methods and personnel. This includes the likelihood that a project is able to achieve stated project goals and objectives on an ecological basis, and whether there is an effective mechanism to evaluate project performance (e.g., sufficient, cost-effective monitoring appropriate to the scope and scale of the project), for which results will be available within and following the award period. Those projects that identify specific quantifiable targets, achievable during the award period, are likely to score higher. For projects requiring maintenance to assure success/proper function, the adequacy of the long-term operation and/or maintenance plan will be considered. (4 points)

3. Overall Qualifications of Applicants (6 points): This criterion ascertains whether the applicant possesses the necessary education, experience, training, facilities, and administrative resources to accomplish the proposed work. For the NOAA Coastal and Marine Habitat Restoration Project Grants competition, applications will be evaluated based on the following:

• The capacity/knowledge of the applicant and associated project personnel to conduct the scope and scale of the proposed work, as indicated by the qualifications and past experience of the project leaders and/or partners in designing, implementing and effectively managing and overseeing projects that restore marine and coastal habitats. Proposals that require engineering decision making should highlight the qualifications and experience of the designer/engineer. Applicants are encouraged to reference examples of projects similar in scope and nature that have been successfully completed by the implementation team. (4 points)

• The facilities/equipment and/or administrative resources and capabilities available to the applicant, or that will be secured to support and successfully manage the restoration work and grant responsibilities. (2 points)

4. Project Costs (10 points): This criterion evaluates the budget to determine if it is realistic and commensurate with the project needs and time-frame. For the NOAA Coastal and Marine Habitat Restoration Project Grants competition, applications will be evaluated on the following:

• Whether the proposed budget is cost-effective and realistic, based on the applicant's stated objectives, time frame, and amount of overall project budget already secured from other sources. Applications will be evaluated based on the percentage of funds requested that will be dedicated to all phases of project implementation including physical, on-the-ground coastal habitat restoration, compared to the percentage for general program support, overhead and travel. The degree to which funding for salaries will support staff directly involved in accomplishing the restoration work, as evidenced by a detailed breakdown of personnel hours and costs by task, with appropriate NAICS code data that indicates the primary activity of businesses/partners involved in the restoration work, will be evaluated. Requests for equipment (any single piece of equipment costing $5,000 or more) will be evaluated on how strongly tied the equipment is to achieving on-the-ground habitat restoration and on the adequacy of lease versus buy comparisons in justifying the need for purchase. (5 points)

• Whether the proposed budget is sufficiently detailed, with appropriate budget breakdown and justification of Federal and any non-Federal shares by object class as listed on form SF-424A. If funding will be used to complete part of a larger project, a budget overview for the entire project should be provided to allow the selecting official to make an informed determination of a project's readiness. (3 points)

• Whether an applicant can leverage the Federal investment through matching contributions and/or partnerships. Applicants that propose to use independent sources of funds for in-depth evaluation and monitoring of long-term ecological and/or socioeconomic impacts of a project outside the award period will receive full points for this sub-criterion. NOAA encourages applicants to provide matching contributions and work with partners to improve cost-effectiveness; however, match is not required. (2 points)

5. Outreach and Education (2 points): NOAA assesses whether the project provides a focused and effective education and outreach strategy regarding NOAA's mission to protect the Nation's natural resources. For the NOAA Coastal and Marine Habitat Restoration Project Grants competition, applications will be evaluated on the following:

• Public outreach as it relates to the proposed project, including plans to disseminate information on project goals, results, project partners, jobs created or maintained; sources of funding and other support provided, such as the involvement of project partners; and the potential for the proposed project to encourage future restoration and protection of marine and coastal habitats or complement other local restoration or conservation activities. (2 points)

Review and Selection Process

Applications will undergo an initial administrative review to determine if they are eligible and complete. Eligible applications will then undergo a technical review, ranking, and selection process to determine how well they meet the stated aims of the American Recovery and Reinvestment Act and the mission and goals of NOAA.

Eligible applications for habitat restoration projects will be evaluated by at least three individual technical reviewers according to the criteria and weights described in this solicitation. Each technical reviewer will independently evaluate each project and provide an individual score. No consensus advice will be provided by these reviewers. Applications will likely be subject to a subsequent panel review. A panel review is dependent on the constraints surrounding the Act and may be forgone. If a panel review is not convened, the application ranking, technical review comments and scores will be provided to the Selecting Official (SO). If a panel is convened, the FFO, technical ranking, top ranked applications, and technical review comments and scores will be provided to a panel whose members will not have participated as technical reviewers. The panel will be comprised of Federal employees, and may convene in person, or by teleconference, video conference or other electronic means, to discuss the applications and consider technical reviewer comments. Prior to the panel discussion, each member of the panel will independently assign a numerical rating between 1 and 4 for each application according to the following scale:

1 — Marginal; application partially meets some of the evaluation criteria (See Evaluation Criteria above and section V.A. of the FFO) but does not address program priorities outlined in the FFO.

2 — Fair; application adequately meets some of the evaluation criteria (See Evaluation Criteria above and section V.A. of the FFO) and sufficiently addresses a program priority outlined in the FFO.

3 — Good; application thoroughly meets much of the evaluation criteria (See Evaluation Criteria above and section V.A. of the FFO) and addresses program priorities outlined in the FFO.

4 — Excellent; application fully meets most of the evaluation criteria (See Evaluation Criteria above and section V.A. of the FFO) and exceptionally addresses program priorities outlined in the FFO.

Panel member scores will be averaged and an interim ranking will result which will be presented to the panel for discussion, with the goal of reaching consensus on the applications to be recommended for funding. After discussing the applications, panelists will again assign a numerical rating between 1 and 4 (as described above) for each application, scores will be averaged, and a final project ranking developed. The final ranking from the panel will be presented to the SO and should be the primary consideration by the SO in deciding which applications will be recommended to the NOAA Grants Officer.

Selection Factors for Projects

The SO anticipates recommending applications for funding in rank order unless an application is justified to be selected out of rank order based upon one or more of the following selection factors:

(1) Availability of funding;

(2) Balance/distribution of funds: a) geographically, b) by type of institutions, c) by type of partners, d) by research areas, e) by project types;

(3) Whether this project duplicates other projects funded or considered for funding by NOAA or other Federal agencies;

(4) Program priorities and policy factors set out in section I.A and I.B of the FFO;

(5) An applicant's prior award performance;

(6) Partnerships and/or participation of targeted groups; and

(7) Adequacy of information necessary for NOAA staff to make a NEPA determination and draft necessary documentation before recommendations for funding are made to the NOAA Grants Officer.

Successful applicants may be asked to modify work plans or budgets, and provide supplemental information required by the agency prior to final approval of an award.

Successful applicants should expect that information about their projects and anticipated and realized economic impacts will be posted on Recovery.gov, a White House-managed website established for the purpose of transparency and oversight. Federal agencies expect to be obligated to publish their plans for expenditure of American Recovery and Reinvestment Act funds on this website, including announcements for grant competitions, details on awards made with these funds, and performance and accountability information on funded projects. Recipients of American Recovery and Reinvestment Act funds will be required to comply with Section 1606 of the American Recovery and Reinvestment Act regarding wage rate requirements, and Section 1605 regarding the use of American iron, steel, and manufactured goods for applicable project types (see Application and Submission Information in Section IV.B.2 of the FFO). Recipients will also need to assist NOAA in meeting mandatory reporting requirements under Title XV., Section 1512 (Reports on Use of Funds), of the American Recovery and Reinvestment Act (see Reporting Requirements details in Section VI.C of the FFO). Initial guidance to Federal agencies for implementing American Recovery and Reinvestment Act programs, including reporting requirements for agencies, is provided in OMB Memorandum M-09-10 (February 18, 2009). Additional guidance may be forthcoming related to responsibilities of recipients of grants and cooperative agreements.

Intergovernmental Review

Applications submitted by state and local governments are subject to the provisions of Executive Order 12372, “Intergovernmental Review of Federal Programs.” Any applicant submitting an application for funding is required to complete item 16 on SF-424 regarding clearance by the State Single Point of Contact (SPOC) established as a result of EO 12372. To find out and comply with a State's process under EO 12372, the names, addresses and phone numbers of participating SPOCs is listed in the Office of Management and Budget's home page at: http://www.whitehouse.gov/omb/grants/spoc.html.

Limitation of Liability

In no event will NOAA or the Department of Commerce be responsible for proposal preparation costs if these programs fail to receive funding or are cancelled because of other agency priorities. Publication of this announcement does not obligate NOAA to award any specific project or to obligate any available funds.

National Environmental Policy Act

NOAA must analyze the potential environmental impacts, as required by the National Environmental Policy Act (NEPA), for applicant projects or proposals which are seeking NOAA funding. Detailed information on NOAA compliance with NEPA can be found at the following NOAA NEPA website: http://www.nepa.noaa.gov/, including NOAA Administrative Order 216-6 for NEPA, and the Council on Environmental Quality's (CEQ) implementation regulations. Consequently, as part of an applicant's package, and under their description of their program activities, applicants are required to provide detailed information on the activities to be conducted, safety concerns, locations, sites, species and habitat to be affected, possible construction activities, and any environmental concerns that may exist (e.g., the use and disposal of hazardous or toxic chemicals, introduction of non-indigenous species, impacts to endangered and threatened species, aquaculture projects, and impacts to coral reef systems).

It is the applicant's responsibility to obtain all necessary Federal, state, and local government permits and approvals where necessary for the proposed work to be conducted. Applicants are expected to design their projects so that they minimize the potential for adverse impacts to the environment. Applicants will also be required to cooperate with NOAA in identifying feasible measures to reduce or avoid any identified adverse environmental impacts of their proposed project. The failure to do so shall be grounds for not awarding a grant. Documentation of requests/completion of required environmental authorizations and permits, including Endangered Species Act or Marine Mammal Protection Act authorizations, if applicable, should be included in the application package. Applications will be reviewed to ensure that they contain sufficient information to allow NOAA staff to conduct a NEPA analysis so that appropriate NEPA documentation, required as part of the application package, can be submitted to the NOAA Grants Management Division along with the recommendation for funding for selected applications.

Applicants proposing restoration activities that cannot be categorically excluded from further NEPA analysis, or that are not covered by the NOAA Fisheries Community-based Restoration Program Environmental Assessment (PEA) and Finding of No Significant Impact (FONSI) or Supplemental PEA and FONSI, or whose activities are not covered under another agency's NEPA compliance procedures that can be analyzed and adopted for use by NOAA, will be informed after the technical review stage to determine if NEPA compliance and other requirements can otherwise be expeditiously met so that a project can proceed within the timeframes anticipated under American Recovery and Reinvestment Act. The CRP PEA and FONSI can be found at: http://www.habitat.noaa.gov/recovery.

If additional information is required after an application is accepted, funds can be withheld by the Grants Officer under a special award condition requiring the recipient to submit additional environmental law compliance information sufficient to enable NOAA to make an assessment on any impacts that a project may have on the environment and to verify compliance with any environmental laws.

The Department of Commerce Pre-Award Notification Requirements for Grants and Cooperative Agreements

Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to, nor shall a person be subject to penalty for failure to comply with, a collection of information subject to the requirements of the PRA unless that collection of information displays a currently valid OMB control number.

Executive Order 12866 (Regulatory Impact Review)

This notice has been determined to be not significant for purposes of the Executive Order 12866.

Executive Order 12132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are not applicable. Therefore, a regulatory flexibility analysis has not been prepared.

Dated: March 2, 2009.
James W. Balsiger,
Acting Assistant Administrator for Fisheries, National Marine Fisheries Service.

[FR Doc. E9-4801 Filed 3-5-09; 8:45 am]

BILLING CODE 3510-22-S